NUCLEAR REGULATORY COMMISSION

[Docket No. 030-02278; NRC-2023-0147]

Curators of the University of Missouri; South Farm

AGENCY: Nuclear Regulatory Commission.

ACTION: Environmental assessment and finding of no significant impact; issuance.

SUMMARY: The U.S. Nuclear Regulatory Commission (NRC) is issuing a Finding of No Significant Impact (FONSI) and accompanying Environmental Assessment (EA) for the unrestricted release of the Curators of the University of Missouri South Farm site located in Columbia, Missouri. Based on the analysis in the EA, the NRC staff has concluded that there would be no significant impacts to environmental resources from the proposed unrestricted release and, therefore, a FONSI is appropriate.

DATES: The EA and FONSI referenced in this document are available on October 27, 2023.

ADDRESSES: Please refer to Docket ID NRC-2023-0147 when contacting the NRC about the availability of information regarding this document. You may obtain publicly available information related to this document using any of the following methods:

• Federal Rulemaking Website: Go to https://www.regulations.gov and search for Docket ID NRC-2023-0147. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Michael M. LaFranzo, Region III, U.S. Nuclear Regulatory Commission, Washington, DC 20555-0001; telephone: 630-829-9865; email: Michael.LaFranzo@nrc.gov.

SUPPLEMENTARY INFORMATION:

I. Introduction

By letter dated November 9, 2018, the Curators of the University of Missouri requested the removal from License 24-00513-32 of the South Farm site located in Columbia, Missouri. The South Farm site, approximately 60 m by 23 m (200 ft by 75 ft), was operated as a chemical waste disposal facility, including the radiological component, between 1969 and 1972. As required by section 51.30 of title 10 of the Code of Federal Regulations (10 CFR), “Environmental Assessment,” the NRC prepared an EA that documents the NRC staff's independent evaluation of the potential environmental impacts associated with the unrestricted release of the South Farm site. Based on the analysis in the EA, the NRC staff has concluded that there would be no significant impacts to environmental resources from the Curators of the University of Missouri proposal and, therefore, a FONSI is appropriate.

II. Environmental Assessment

Description of the Proposed Action

By application dated November 9, 2018, as supplemented by letters dated May 8, 2020, November 9, 2020, April 19, 2022, and May 19, 2022, the licensee proposed the unrestricted release and removal from License 24-00513-32 of the South Farm site. The site is approximately 60 m by 23 m (200 ft by 75 ft) and was operated as a chemical waste disposal facility between 1969 and 1972. The chemical waste disposed of at the South Farm site also included a radiological component.

Need for the Proposed Action

Approval of the proposed action would permit additional remediation of the site (soil) for non-radiological constituents at a later time and allow the NRC to fulfill its responsibilities under the Atomic Energy Act of 1954, as amended (AEA), to ensure protection of the public health and safety and the environment by verifying that the site meets the requirements for unrestricted release in 10 CFR 20.1402, “Radiological criteria for unrestricted use.”

Environmental Impacts of the Proposed Action

The NRC's evaluation of the proposed action is that the South Farm site will have minimal impacts on the environment to include future land use, geology and soils, water resources, ecology, air quality, and noise and will comply with NRC's unrestricted release criteria pursuant to 10 CFR part 20, “Standards for Protection Against Radiation.”

Environmental Impacts of the Alternatives to the Proposed Action

As an alternative to the proposed action, the staff considered denial of the proposed action (i.e., the “no-action” alternative). An alternate approach is not to release the area for unrestricted use. The consequences could significantly limit the ability of the Curators of the University of Missouri to remediate the site for non-radiological constituents at a later time and allow the NRC to fulfill its responsibilities under the AEA to ensure protection of the public health and safety and the environment.

Alternative Use of Resources

The proposed action does not involve any different environmental resources beyond those considered in the final environmental statement.

Agencies and Persons Consulted

Between May 9, 2020, and May 19, 2022, the NRC staff consulted with the State of Missouri's Radiological Control Department regarding the environmental impact of the proposed action. The State of Missouri's Radiological Control Department made comments which were addressed by NRC staff. On May 19, 2022, the State indicated that they did not have additional comments for consideration.

III. Finding of No Significant Impact

The NRC staff has concluded that the proposed licensing action, to release the South Farm disposal area as designated by the Curators of the University of Missouri for unrestricted use, would not significantly affect the quality of the human environment. The NRC staff considered the impacts on land use, transportation, geology and soils, water resources, ecology, air quality, noise, historical and cultural resources, visual and scenic resources, socioeconomic resources, public and occupational health, and waste management and concluded that radiological doses to members of the public would be below applicable limits in 10 CFR part 20. On the basis of the EA, the NRC finds that there are no significant environmental impacts from the action, and that preparation of an environmental impact statement is not warranted. Accordingly, the NRC has determined that a FONSI is appropriate. In accordance with 10 CFR 51.32(a)(4), this FONSI incorporates the EA set forth in this notice by reference.

IV. Availability of Documents

The documents identified in the following table are available to interested persons through one or more of the following methods, as indicated.

Document description | ADAMS accession No.
Curators of the University of Missouri—Columbia—Decommissioning Amendment Request—Partial Site Release of South Farm, dated November 9, 2018 | ML18318A032.
Request for Comments on Draft Environmental Assessment and Safety Evaluation Report for Proposed Decommissioning Project at South Farm site, Curators of the University of Missouri—Columbia of Missouri, dated May 8, 2020 | ML20127H882 (non-public, withheld pursuant to 10 CFR 2.390).
Request for Comments on Draft Environmental Assessment and Safety Evaluation Report for Proposed Decommissioning Project at South Farm Site, Curators of the University of Missouri—Columbia, Columbia, Missouri, and the Dose Assessment for the South Farm—License No. 24-00513-32, dated November 9, 2020 | ML20329A267 (non-public, withheld pursuant to 10 CFR 2.390).
Comment Resolution on Draft Environmental Assessment and Safety Evaluation Report for the Proposed Decommissioning Project at South Farm Site, Curators of the University of Missouri—Columbia; Columbia, Missouri, and the Dose Assessment for South Farm—License Number 24-00513-32, dated April 19, 2022 | ML21299A026 (non-public, withheld pursuant to 10 CFR 2.390).
Response to Comment Resolution on Draft Environmental Assessment and Safety Evaluation Report for the Proposed Decommissioning Project at South Farm Site, Curators of the University of Missouri—Columbia; Columbia, Missouri, and the Dose Assessment for South Farm—License Number 24-00513-32, dated May 19, 2022 | ML22146A346.
Environmental Assessment for Release of South Farm Site at Curators of the University of Missouri, Columbia, Missouri; Materials License 24-0051332, Docket 030-02278 | ML23279A056.
Safety Evaluation Report for Release of South Farm Site at the Curators of the University of Missouri, Columbia, Missouri; Materials License 24-00513-32, Docket 030-02278 | ML23278A150.

Dated: October 23, 2023.
For the Nuclear Regulatory Commission.
Michael M. LaFranzo,
Senior Health Physicist, Decommissioning, Reactors, ISFSI and Health Physics Branch, Division of Radiological Safety and Security, Region III.

[FR Doc. 2023-23695 Filed 10-26-23; 8:45 am]

BILLING CODE 7590-01-P